DEPARTMENT OF AGRICULTURE

Natural Resources Conservation Service

Cape Cod Water Resources Restoration Project, Barnstable County, MA; Record of Decision

1. Purpose—As State conservationist for the Natural Resources Conservation Service (NRCS), I am the Responsible Federal Official (RFO) for all NRCS projects in Massachusetts.

The recommended plan for the Cape Cod Watershed involves works of improvement to be installed under authorities administered by NRCS. This areawide planning Project ¹ includes 26 salt marsh restoration projects, 24 fish passage remediation projects, and 26 stormwater remediation projects.

¹ We use “Project” in this ROD and the Plan-EIS to refer to the areawide Cape Cod Water Resources Restoration Project and “project” to refer to individual site restoration or remediation activities; the Project comprises 76 projects.

The Cape Cod Watershed plan was prepared under the authority of the Watershed Protection and Flood Prevention Act (Public Law 566, 83rd Congress, 68 Stat. 666, as amended) by the Cape Cod Conservation District, Barnstable County Commissioners, the 15 towns of Barnstable County, and the Massachusetts Executive Office of Environmental Affairs. The scoping meeting, held during May 2005, established the NRCS, U.S. Department of Agriculture, as lead agency.

2. Measures taken to comply with national environmental policies—The Cape Cod Water Resources Restoration Project has been planned in accordance with existing Federal legislation concerned with the preservation of environmental values. The following actions were taken to ensure that the Cape Cod Watershed plan is consistent with national goals and policies.

The interdisciplinary environmental evaluation of the Cape Cod Water Resources Restoration Project was conducted by the sponsoring local organizations, cooperating agencies, and the NRCS. Information was obtained from many groups and agencies. An inventory and evaluation of environmental and socioeconomic conditions were prepared by Massachusetts NRCS and EA Engineering, Science, and Technology under a contract with NRCS. Reviews were held with the U.S. Environmental Protection Agency, U.S. Army Corps of Engineers, U.S. Fish and Wildlife Service, National Oceanic and Atmospheric Administration, National Park Service, Massachusetts Executive Office of Environmental Affairs, State Historic Preservation Officer, and the Tribal Historic Preservation Officer of the Wampanoag Tribe of Gay Head (Aquinnah). Inputs from these reviews were included in the EIS.

A public meeting was held on May 18, 2005, to solicit public participation in the environmental evaluation, to assure that all interested parties had sufficient information to understand how their concerns are affected by water resource problems, to afford local interests the opportunity to express their views regarding the plans that can best solve these problems, and to provide all interests an opportunity to participate in the plan selection. More than 400 parties were notified by mail of the joint public meetings. Meeting notes are on file at the NRCS State Office.

Testimony and recommendations were received relative to the following subjects:

a. Support for projects to treat stormwater runoff as a means for improving water quality and keeping shellfish beds open for recreational and commercial use.

b. Support for projects to restore fish passageways on local streams.

c. Support for projects to restore tidal flushing to salt marshes with restricted tidal openings.

A draft Environmental Impact Statement (EIS) was prepared in August 2006 and made available for public review. The recommendations and comments obtained from the public meeting held during Project planning and assessment were considered in the preparation of the draft EIS.

The draft EIS was distributed to agencies, conservation groups, organizations, and individuals for comment. Copies were also placed in the libraries of all 15 towns in the watershed, and the draft EIS was made available on the Massachusetts NRCS Web site. The draft EIS was filed with the Environmental Protection Agency on August 3, 2006, and notices of the availability of the draft EIS for public review were published in the Federal Register by NRCS on August 1, 2006, and by EPA on August 11, 2006.

Existing data and information pertaining to the Project's probable environmental consequences were obtained with assistance from other scientists and engineers. Documentary information as well as the views of interested Federal, State, and local agencies and concerned individuals and organizations having special knowledge of, competence over, or interest in the Project's environmental impacts were sought. This process continued until it was felt that all the information necessary for a comprehensive, reliable assessment had been gathered.

A complete picture of the Project's current and probable future environmental setting was assembled to determine the proposed Project's impact and identify unavoidable adverse environmental impacts that might be produced. During these phases of evaluation, it became apparent that there are legitimate conflicts of scientific theory and conclusions leading to differing views of the Project's environmental impact. In such cases, after consulting with persons qualified in the appropriate disciplines, those theories and conclusions appearing to be the most reasonable, and having scientific acceptance were adopted.

The consequences of a full range of reasonable and viable alternatives to specific improvements were considered, studied, and analyzed. In reviewing these alternatives, all courses of action that could reasonably accomplish the Project purposes were considered. Attempts were made to identify the economic, social, and environmental values affected by each alternative. Both structural and nonstructural alternatives were considered.

The alternatives considered reasonable alternatives to accomplish the project's objectives were (1) Water Resources Restoration Alternative, (2) No Action Alternative.

3. Conclusions—The following conclusions were reached after carefully reviewing the proposed Cape Cod Water Resources Restoration Project in light of all national goals and policies, particularly those expressed in the National Environmental Policy Act, and after evaluating the overall merit of possible alternatives to the Project:

a. The Cape Cod Water Resources Restoration Project will employ reasonable and practicable means that are consistent with the National Environmental Policy Act while permitting the application of other national policies and interests. These means include, but are not limited to, a Project planned and designed to minimize adverse effects on the natural environment while accomplishing an authorized Project purpose. Project features designed to preserve existing environmental values for future generations include: (1) Replacement of inadequately sized or failed culverts with larger culverts or bridges to restore tidal flushing to salt marshes; (2) reconstruction of failed fish passageways, replacement of collapsed or improperly aligned curves, or removing restrictions at bridges to provide full access to upstream spawning and nursery areas for anadromous fish; and (3) installation of catch basins and infiltration systems or other cost-effective alternatives to treat stormwater runoff, reduce bacteria loading to tidal receiving waters, and help keep shellfish beds open.

b. The Cape Cod Water Resources Restoration Project was planned using a systematic interdisciplinary approach involving integrated uses of the natural and social sciences and environmental design arts. All conclusions concerning the environmental impact of the Project and overall merit of existing plans were based on a review of data and information that would be reasonably expected to reveal significant environmental consequences of the proposed Project. These data included studies prepared specifically for the Project and comments and views of all interested Federal, State, and local agencies and individuals. The results of this review constitute the basis for the conclusions and recommendations. The Project will not affect any cultural resources eligible for inclusion in the National Register of Historic Places. Nor will the Project affect any species of fish, wildlife, or plant or their habitats that have been designated as endangered or threatened.

c. In studying and evaluating the environmental impact of the Cape Cod Water Resources Restoration Project, every effort was made to express all significant environmental values quantitatively and to identify and give appropriate weight and consideration of nonquantifiable environmental values.

d. Wherever legitimate conflicts of scientific theory and conclusions existed and conclusions led to different views, persons qualified in the appropriate environmental disciplines were consulted. Theories and conclusions appearing to be most reasonable scientifically acceptable, or both, were adopted.

e. Every possible effort has been made to identify those adverse environmental effects that cannot be avoided if the Project is constructed.

f. The long-term and short-term resource uses, long-term productivity, and the irreversible and irretrievable commitment of resources are described in the final EIS.

g. All reasonable and viable alternatives to Project features and to the Project itself were studied and analyzed with reference to national policies and goals, especially those expressed in the National Environmental Policy Act and the Federal water resource development legislation under which the Project was planned. Each possible course of action was evaluated as to its possible economic, technical, social, and overall environmental consequences to determine the tradeoffs necessary to accommodate all national policies and interests. Some alternatives may tend to protect more of the present and tangible environmental amenities than the proposed Project will preserve. However, no alternative or combination of alternatives will afford greater protection of the environmental values while accomplishing the other Project goals and objectives.

h. I conclude, therefore, that the proposed Project will be the most effective means of meeting national goals and is consistent in serving the public interest by including provisions to protect and enhance the environment. I also conclude that the recommended plan is the environmentally preferable plan.

4. Recommendations—Having concluded that the proposed Cape Cod Water Resources Restoration Project uses all practicable means, consistent with other essential considerations of the national policy, to meet the goals established in the National Environmental Policy Act, that the Project will thus serve the overall public interest, that the final EIS has been prepared, reviewed, and accepted in accordance with the provisions of the National Environmental Policy Act as implemented by Departmental regulations for the preparation of environmental impact statements, and that the Project meets the needs of the Project's sponsoring local organizations, I propose to implement the Cape Cod Water Resources Restoration Project.

Christine Clarke,
State Conservationist, Natural Resources Conservation Service, U.S. Department of Agriculture.

[FR Doc. E6-21847 Filed 12-20-06; 8:45 am]

BILLING CODE 3410-16-P